DEPARTMENT OF AGRICULTURE

Forest Service

Information Collection: Management of Wild Free-Roaming Horses and Burros

AGENCY: Forest Service, USDA.

ACTION: Notice; request for comment.

SUMMARY: In accordance with the Paperwork Reduction Act of 1995, the Forest Service is seeking comments from all interested individuals and organizations on the new collection of information request, Management of Wild Free-Roaming Horses and Burros.

DATES: Comments must be received in writing on or before January 22, 2018 to be assured of consideration. Comments received after that date will be considered to the extent practicable.

ADDRESSES: Comments concerning this notice should be addressed to Director, Forest and Range Management and Vegetation Ecology, Mail Stop 1103, USDA Forest Service, 1400 Independence Avenue SW., Washington, DC 20024-1103.

Comments also may be submitted by email to: hdwoodward@fs.fed.us. The public may inspect comments received at the Office of the Director, Forest and Range Management and Vegetation Ecology, Third Floor SE., Sidney R. Yates Federal Building, 201 14th Street SW., Washington, DC, during normal business hours. Visitors are encouraged to call ahead to 202-791-8489 to facilitate entry to the building.

FOR FURTHER INFORMATION CONTACT: Hope Woodward, U.S. Forest Service, Forest and Range Management and Vegetation Ecology, 202-791-8489. Individuals who use telecommunication devices for the deaf (TDD) may call the Federal Relay Service (FRS) at 1-800-877-8339 twenty-four hours a day, every day of the year, including holidays.

SUPPLEMENTARY INFORMATION:

Title: Management of Wild Free-Roaming Horses and Burros.

OMB Number: 0596—New.

Expiration Date of Approval: New.

Type of Request: New.

Abstract: This notice pertains to the collection of information that enables the Forest Service to administer its private maintenance (i.e., adoption) program for wild free roaming horses and burros located on U.S. Forest Service, Forests and Grasslands. The Forest Service uses the information to determine if applicants are qualified to provide humane care and proper treatment to wild horses and burros in compliance with the Wild Free-Roaming Horses and Burros Act (16 U.S.C. 1331-1340), as amended, and 36 CFR 222.60. The Forest Service gathers information from applicants intending to adopt a wild horse and/or burro, and issues a certificate of title related to the adoption. The application form provides the Forest Service information including the:

(a) Applicant's name, address, contact information, history of adoption, and care facility,

(b) Description of horse and/or burro to be adopted,

(c) Veterinarian certification that animals, prior to issuing certificate of title, are in good condition and receiving proper care and treatment under humane conditions, and

(d) Ability to care for animals, transportation, fencing, and intended use.

The information will be collected from those who wish to adopt and obtain title to the wild horses and burros.

Applicants will fill out the required form in person and submit it to the Forest Service representative administering the wild horse and burro program. The Forest Service representative will review the form and determine whether the applicant understands the terms of adoption and prohibited acts, has been in compliance with the adoption agreement, and will provide or has provided humane treatment, care, and maintenance for the animal while in their care.

Without the information from these application forms, the Forest Service will not be able to provide the oversight required to administer the wild horse and burro program as authorized and regulated by law.

Type of Respondents: Individuals, private businesses, state governments, tribal governments.

Estimated Annual Number of Respondents: 400.

Estimate of Burden Hours per Response: 0.50 hours.

Estimated Annual Number of Responses per Respondent: 1.

Estimated Total Annual Burden Hours on Respondents: 200 Hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: November 6, 2017.
Glenn Casamassa,
Associate Deputy Chief, National Forest System.

[FR Doc. 2017-25116 Filed 11-20-17; 8:45 am]

BILLING CODE 3411-15-P